DEPARTMENT OF TRANSPORTATION

Federal Transit Administration

Intent to Prepare an Environmental Impact Statement for Proposed Transit Improvements to the Orange Line, Cook County, IL

AGENCY: Federal Transit Administration (FTA), Department of Transportation.

ACTION: Notice of Intent to Prepare an Environmental Impact Statement.

SUMMARY: The FTA, as the Federal lead agency, and the Chicago Transit Authority (CTA) intend to prepare an Environmental Impact Statement (EIS) for the Orange Line Extension Project in Cook County, Illinois. CTA operates the rapid transit system in Chicago, Cook County, Illinois. The proposed project, described more completely within, would extend the Orange Line, a heavy rail transit line, to connect Midway Station at the Midway International Airport to the Ford City shopping center. The purpose of this Notice of Intent is to alert interested parties regarding the intent to prepare the EIS and to provide information on the nature of the proposed project and possible alternatives to invite public participation in the EIS process.

DATES: Written comments on the scope of the EIS, including the project's purpose and need, the alternatives to be considered, the impacts to be evaluated, and the methodologies to be used in the evaluations should be sent to CTA on or before October 27, 2009. See ADDRESSES below for the address to which written public comments may be sent. A public scoping meeting to accept comments on the scope of the EIS will be held on the following date:

• Monday, September 21, 2009; 6 p.m. to 8 p.m.; at the Hancock College Preparatory High School, 4034 W. 56th St., Chicago, IL 60629.

The buildings used for the scoping meetings are accessible to persons with disabilities. Any individual who requires special assistance, such as a sign language interpreter, to participate in the scoping meeting should contact Mr. Darud Akbar, Government and Community Relations Officer, at 312-681-2708 or dakbar@transitchicago.com, five days prior to the meeting.

Scoping materials describing the project purpose and need and the alternatives proposed for analysis will be available at the meetings and on the CTA Web site http://www.transitchicago.com/OrangeEIS. Paper copies of the scoping materials may also be obtained from Mr. Darud Akbar, Government and Community Relations Officer, at 312-681-2708 or dakbar@transitchicago.com. An interagency scoping meeting will be held on Thursday, September 24 at 1:30 p.m. at CTA Headquarters, in Conference Room 2C, 567 W. Lake Street, Chicago, IL 60661. Representatives of Native American tribal governments and of all Federal, State, regional and local agencies that may have an interest in any aspect of the project will be invited to be participating or cooperating agencies, as appropriate.

ADDRESSES: Comments will be accepted at the public scoping meetings or they may be sent to Mr. Jeffrey Busby, General Manager, Strategic Planning, Chicago Transit Authority, P.O. Box 7602, Chicago, IL 60680-7602, or via e-mail at OrangeExtension@transitchicago.com.

FOR FURTHER INFORMATION CONTACT: Mr. David Werner, Community Planner, Federal Transit Administration, Region V, 200 West Adams Street, Suite 320, Chicago, IL 60606, phone 312-353-3879, e-mail David.Werner@dot.gov.

SUPPLEMENTARY INFORMATION:

Scoping

The FTA and CTA invite all interested individuals and organizations, public agencies, and Native American Tribes to comment on the scope of the EIS, including the project's purpose and need, the alternatives to be studied, the impacts to be evaluated, and the evaluation methods to be used. Comments should address (1) alternatives that may better achieve the project's need and purposes at less cost or with fewer adverse impacts, and (2) any significant environmental impacts relating to the alternatives.

National Environmental Policy Act (NEPA) “scoping” (40 CFR 1501.7) has specific and fairly limited objectives, one of which is to identify the significant issues associated with alternatives that will be examined in detail in the document, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence. Transit projects may also generate environmental benefits; these should be highlighted as well—the impact statement process should draw attention to positive impacts, not just negative impacts.

Once the scope of the environmental study, including significant environmental issues to be addressed, is settled, an annotated outline of the document will be prepared and shared with interested agencies and the public. The outline serves at least three worthy purposes, including (1) documenting the results of the scoping process; (2) contributing to the transparency of the process; and (3) providing a clear roadmap for concise development of the environmental document.

Purpose and Need for the Project

The purpose of the Orange Line Extension project is to improve access to the existing Orange Line for southwest side and southwest suburban residents and businesses, support the area's ongoing economic development efforts, and strengthen the competiveness of transit in the reverse commute market.

The need for the project is based on the following considerations: access to the Orange Line is currently constrained by limited parking availability; access to the Orange Line by bus or auto is unreliable due to congestion approaching the existing terminal station; and few uncongested roadways are available to access the current Orange Line terminal because of wider than usual arterial street spacing, which limits mobility for residents and businesses.

Project Location and Environmental Setting

The proposed heavy rail transit (HRT) project area lies about 10 miles southwest of the Chicago Central Area (commonly referred to as the “Loop”). The limits of the project area are 59th Street on the north and 79th Street on the south. Midway International Airport is located in the northwestern portion of the project area.

The project area includes parts of the community areas of Ashburn, Clearing, and West Lawn within the City of Chicago, and is adjacent to the Village of Bedford Park and the City of Burbank. The project area is highly developed, with significant residential (primarily single family), industrial, transportation and commercial (retail and office) developments.

The locally preferred alternative (LPA) for the proposed Orange Line Extension project was approved by the Chicago Transit Board for further study in the EIS on August 12, 2009. The proposed Orange Line Extension would extend the heavy rail transit line from Midway Station at the Midway International Airport south along the Belt Railway Company (BRC) right-of-way from 59th Street to Marquette Road, cross the BRC Clearing Yard and terminate on Cicero Avenue. The extension would include 2.3 new route miles of rapid transit to the existing Orange Line and one additional station at approximately 7600 S. Cicero Avenue, with new bus terminal and parking facilities.

Alternatives

The Orange Line Extension Final Alternatives Analysis Report (2009) prepared by CTA identified three alternatives for further consideration in the EIS. The three alternatives include: a No Build Alternative, Transportation System Management (TSM) Alternative, and the Fixed Guideway Alternative.

No-Build Alternative: The No Build Alternative is defined as the existing transportation system, plus any committed transportation improvements. Committed transportation improvements include projects that are already in the Chicago Metropolitan Agency for Planning (CMAP) financially constrained Transportation Improvement Program (TIP). The Orange Line project area has one road improvement project included in the FY 2007-2012 TIP; the Cicero Avenue Smart Corridor Project from 37th Street to 63rd Street scheduled for completion in 2009.

Bus transit service under the No Build Alternative would be focused on the preservation of existing services and projects. The transit network within the project area is projected to be substantially the same as it is now. All elements of the No Build Alternative are included in each of the other alternatives.

Transportation System Management (TSM) Alternative: A TSM Alternative is proposed because it is required as part of the New Starts evaluative process; in this case, it does not meet the purposes of and need for the proposed project. The TSM Alternative is Bus Rapid Transit (BRT) that would operate west on 59th Street from the 59th Street Midway Station bus terminal to Cicero Avenue, and then south on Cicero Avenue from 59th Street to approximately 76th Street. Proposed BRT service would operate in mixed traffic with traffic signal priority on the Cicero Avenue segment.

The TSM Alternative is 2.3 miles long and would not include any intermediate stops. There would be no exclusive lanes along the Cicero Avenue portion of the route. A new park and ride facility would be constructed at the proposed terminal stop at approximately 7600 S. Cicero. Bus route 67 67th/69th/71st would be re-routed to terminate at the new Ford City Station.

Fixed Guideway Alternative/Locally Preferred Alternative (LPA): The proposed LPA would operate partly in a trench and partly at-grade along the BRC right-of-way between the existing Midway station and approximately 6400 south, where it would transition to an elevated structure above Marquette Road. The proposed route would travel under 59th Street and 63rd Street allowing those cross streets to remain open to traffic. It then would veer to the southwest over the BRC Clearing Yard and then continue south on an elevated structure in the median of Cicero Avenue to a new Ford City terminal station located on Cicero Avenue at approximately 76th Street.

The LPA is 2.3 miles long and would not include any intermediate stops. The conceptual alignment design for the elevated structure at Marquette Road would allow for a future station in that vicinity. The Ford City terminal station would include a park-and-ride facility and an improved bus terminal. The alternative assumes that Pace buses from the south would continue to directly serve Midway Station. Route 67 67th/69th/71st would be re-routed to terminate at the new proposed Ford City terminal station.

Two alignment options along Cicero Avenue to 76th Street will be evaluated; an alignment above the median of Cicero Avenue and an alignment located directly east of the Cicero Avenue right-of-way. The alignment over the median of Cicero Avenue would have fewer property acquisition costs and impacts to existing businesses; however, both alignment options will be studied further in the EIS.

Possible Effects

The purpose of this EIS process is to study, in a public setting, the effects of the proposed project and its alternatives on the quality of the human environment. Areas of investigation for transit projects generally include, but are not limited to: land use, development potential, land acquisition and displacements, historic resources, visual and aesthetic qualities, air quality, noise and vibration, energy use, safety and security, and ecosystems, including threatened and endangered species; investigation may reveal that the proposed project will not affect or affect substantially many of those areas. Measures to avoid, minimize, or mitigate any significant adverse impacts will be identified.

FTA Procedures

The regulations implementing NEPA, as well as provisions of the Safe, Accountable, Flexible, Efficient Transportation Equity Act: A Legacy for Users (SAFETEA-LU), call for public involvement in the EIS process. Section 6002 of SAFETEA-LU requires that FTA and CTA do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American tribes that may have an interest in the proposed project. It is possible that FTA and CTA will not be able to identify all Federal and non-Federal agencies and Native American tribes that may have such an interest. Any Federal or non-Federal agency or Native American tribe interested in the proposed project that does not receive an invitation to become a participating agency should notify at the earliest opportunity the Project Manager identified above under ADDRESSES.

A comprehensive public involvement program and a Coordination Plan for public and interagency involvement will be developed for the project and posted on CTA's Web site http://www.transitchicago.com/OrangeEIS. The public involvement program includes a full range of activities including maintaining the project Web page on the CTA Web site and outreach to local officials, community and civic groups, and the public. Specific activities or events for involvement will be detailed in the project's public participation plan.

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received (preferably in advance of printing), FTA and its grantees will distribute only the executive summary of the environmental document together with a Compact Disc of the complete environmental document. A complete printed set of the environmental document is available for review at the grantee's offices and elsewhere; an electronic copy of the complete environmental document is also available on the grantee's Web page.

CTA may seek New Starts funding for the proposed project under 49 United States Code 5309 and will, therefore, be subject to New Starts regulations (49 Code of Federal Regulations (CFR) Part 611). The New Starts regulations also require the submission of certain project-justification information to support a request to initiate preliminary engineering. This information is normally developed in conjunction with the NEPA process. Pertinent New Starts evaluation criteria will be included in the EIS.

The EIS will be prepared in accordance with NEPA and its implementing regulations issued by the Council on Environmental Quality (40 CFR parts 1500-1508) and with the FTA/Federal Highway Administration regulations “Environmental Impact and Related Procedures” (23 CFR part 771).

Issued on: August 24, 2009.
Marisol R. Simon,
Regional Administrator, Federal Transit Administration, Region V.

[FR Doc. E9-20965 Filed 8-31-09; 8:45 am]

BILLING CODE 4910-57-P